DEPARTMENT OF HEALTH AND HUMAN SERVICES

National Institutes of Health

Office of the Director; Amended Notice of Meeting

Notice is hereby given of a change in the meeting of the NIH Clinical Center Research Hospital Board scheduled for October 21, 2016, 9:00 a.m. to 5:00 p.m., in Conference Room 6C6, Building 31, National Institutes of Health, Bethesda, MD 20892, which was published in the Federal Register on September 16, 2016, 81 FR 63778.

A discussion of the reports from the Anonymous Safety Hotline developed by NIH for Clinical Center staff, patients, or visitors to report any concerns about care or unsafe conditions has been added to the closed portion of the meeting. This portion will be closed to the public in accordance with the provisions set forth in section 552b(c)(9)(B) and 552b(c)(6), Title 5 U.S.C., as amended. The premature disclosure of the laboratories or units and staff involved in the individual reports could significantly limit the Hotline's purpose by compromising anonymity. These actions would frustrate NIH's use of this resource as it strives to improve the overall safety and quality of care at the Clinical Center.

There are no changes for the open portion of the meeting that was advertised on September 16, 2016.

Dated: October 3, 2016.
Anna Snouffer,
Deputy Director, Office of Federal Advisory Committee Policy.

[FR Doc. 2016-24257 Filed 10-6-16; 8:45 am]

BILLING CODE 4140-01-P